DEPARTMENT OF TRANSPORTATION

Federal Railroad Administration

[Docket Number FRA-2020-0060]

Petition for Waiver of Compliance

Under part 211 of title 49 Code of Federal Regulations (CFR), this document provides the public notice that on July 13, 2020, the American Public Transportation Association (APTA) petitioned the Federal Railroad Administration (FRA) for a waiver of compliance from certain provisions of the Federal railroad safety regulations contained at 49 CFR parts 213, 214, 217, 218, 220, 225, 228, 229, 232, 234, 236, 238, 239, 240, 242, and 243. FRA assigned the petition Docket Number FRA-2020-0060.

APTA, on behalf of its member railroads, requests to renew the emergency relief FRA previously granted by letter dated May 22, 2020, in its emergency relief docket (Docket Number FRA-2020-0002). See https://www.regulations.gov/document?D=FRA-2020-0002-0074. FRA renewed this relief for an additional 60 days on July 20, 2020. See https://www.regulations.gov/document?D=FRA-2020-0002-0094.

APTA states that the requested emergency relief allows for modifications in operations that are necessary to maintain public and railroad employee health and safety, and it enables commuter and passenger railroads to operate consistently with recommendations from the Centers for Disease Control and Prevention concerning reducing the spread of coronavirus disease 2019 (COVID-19). Additionally, APTA states that its member railroads are currently only utilizing a small portion of the relief to prioritize safety, but it expects that the changing dynamics of COVID-19 may require use of relief not currently being applied. Given the uncertain nature of the COVID-19 public health emergency and its effect on railroad operations, APTA requests to renew the relief for one year.

A copy of the petition, as well as any written communications concerning the petition, is available for review online at www.regulations.gov (Docket Number FRA-2020-0060).

Interested parties are invited to participate in these proceedings by submitting written views, data, or comments. If any interested parties desire an opportunity for oral comment and a public hearing, they should notify FRA, in writing, before the end of the comment period and specify the basis for their request.

All communications concerning these proceedings should identify the appropriate docket number and may be submitted at http://www.regulations.gov. Follow the online instructions for submitting comments.

Communications received by September 4, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-17028 Filed 8-4-20; 8:45 am]

BILLING CODE 4910-06-P